DEPARTMENT OF THE INTERIOR

Bureau of Land Management

[UT-040-07-1430-ES; UTU-82068, UTU-82980]

Notice of Realty Action: Recreation and Public Purposes Act Classification of Public Lands in Iron County, UT

AGENCY: Bureau of Land Management, Interior.

ACTION: Notice of Realty Action.

SUMMARY: The Bureau of Land Management (BLM) has examined and found suitable for classification for lease or conveyance under the provisions of the Recreation and Public Purposes (R&PP) Act as amended (43 U.S.C. 869, et seq.) 10 acres of public lands in Iron County, Utah. The Town of Kannaraville proposes to use the lands as a solid waste transfer station (2.47 acres), and a public baseball park (7.53 acres).

DATES: Interested parties may submit written comments regarding the proposed lease or conveyance or classification of the lands until August 9, 2007.

ADDRESSES: Send written comments to the Cedar City Field Manager, Bureau of Land Management, Cedar City Field Office, 176 East D.L. Sargent Drive, Cedar City, Utah 84720-9337.

FOR FURTHER INFORMATION CONTACT: Randy M. Trujillo, Associate Field Office Manager, Bureau of Land Management, Cedar City Field Office, (435) 865-3080.

SUPPLEMENTARY INFORMATION: The following described public land in Iron County, Utah has been examined and found suitable for classification for conveyance as a solid waste transfer station site (UTU-82068) under the provisions of the Recreation and Public Purposes Act, as amended (43 U.S.C. 869 et seq.):

Salt Lake Meridian, Utah

T. 38 S., R. 12 W.

Sec. 34, lot 12, containing 2.47 acres.

The following described public land in Iron County, Utah has been examined and found suitable for classification for lease or conveyance as a public park (UTU-82980) under the provisions of the Recreation and Public Purposes Act, as amended (43 U.S.C. 869 et seq.):

Salt Lake Meridian, Utah

T. 38 S., R. 12 W.

Sec. 34, lot 13 (portion), containing 7.53 acres.

The 7.53 acres are to be re-described as lot 16 upon approval of a supplemental survey plat.

The above described 10 acres of public lands are not required for any Federal purpose. Lease or conveyance of the public lands for the stated purposes is in conformance with the BLM Cedar Beaver Garfield Antimony Resource Management Plan (RMP) approved October 1, 1986, as amended September 23, 1997. The proposed conveyance of 2.47 acres and the lease and conveyance of 7.53 acres is in conformance with the RMP because it meets Criterion No. 1 of the RMP, as amended: “is in the public interest and accommodates the needs of State, local or private entities, including needs for the economy, community growth and expansion and is in accordance with other land use goals and objectives and RMP decisions”.

The lease/conveyances, when issued, will be subject to the provisions of the R&PP Act and applicable regulations of the Secretary of the Interior.

The conveyance (Federal land patent) of 2.47 acres for solid waste transfer station site (BLM Serial No. UTU-82068) will be subject to the following terms and conditions:

Excepting and reserving to the United States:

1. A right-of-way for ditches or canals constructed by the authority of the United States, Act of August 30, 1890 (43 U.S.C. 945).

2. All minerals, together with the right to prospect for, mine, and remove such deposits from the lands under applicable law and such regulations as the Secretary of the Interior may prescribe.

The patent will be subject to:

1. All valid existing rights of record.

2. The patentee shall comply with approved plans of development and management.

3. The patentee warrants that it will indemnify and hold the United States harmless against any liability that may arise out of any violation of Federal or State law in connection with the use of the lands.

4. Title shall revert to the United States upon a finding, after notice and opportunity for a hearing, that the patentee has not substantially developed the lands in accordance with the approved plan of development on or before the date five years after the date of conveyance. No portion of the land shall under any circumstance revert to the United States if any such portion has been used for solid waste disposal or solid waste transfer station operations, or for any other purpose which may result in the disposal, placement, or release of any hazardous substance.

5. If, at any time, the patentee transfers to another party ownership of any portion of the land not used for the purposes specified in the application and approved plan of development, the patentee shall pay the Bureau of Land Management the fair market value, as determined by the authorized officer, of the transferred portion as of the date of transfer, including the value of any improvements thereon.

6. The above described land has been conveyed for utilization as a solid waste transfer station site. Upon closure, the site may contain small quantities of commercial and household waste as determined in the Resource Conservation and Recovery Act of 1976, as amended (42 U.S.C. 6901), and defined in 40 CFR 261.4 and 261.5. Although there is no indication that these materials pose any significant risk to human health or the environment, future land uses should be limited to those which do not penetrate surface soils or any liner left in place unless excavation is conducted subject to applicable State and Federal requirements.

The lease or conveyance of 7.53 acres for a public baseball park (BLM Serial No. UTU-82980) will be subject to the following terms and conditions:

Excepting and reserving to the United States:

1. A right-of-way thereon for ditches or canals constructed by the authority of the United States, Act of August 30, 1890 (43 U.S.C. 945).

2. All minerals, together with the right to prospect for, mine, and remove such deposits from the lands under applicable law and such regulations as the Secretary of the Interior may prescribe.

The lease/patent of 7.53 acres will be subject to:

1. All valid existing rights of record.

2. Compliance with approved plans of development and management.

Detailed information concerning these actions is available for review in the office of the BLM, Cedar City Field Office, at the address listed above.

On June 25, 2007, the above described lands are segregated from all forms of appropriation under the public land laws, including the general mining laws, except for lease or conveyance under the R&PP Act, leasing under mineral leasing laws, and disposals under the mineral material disposal laws.

Classification Comments: Interested parties may submit comments involving the suitability of the lands for a solid waste transfer station site and public park purposes. Comments on the classification are restricted to whether the lands are physically suited for the proposal, whether the uses will maximize the future use or uses of the land, whether the uses are consistent with local planning and zoning, or whether the uses are consistent with State and Federal programs.

Application Comments: Interested parties may submit comments regarding the specific uses proposed in the applications and plans of development, whether the BLM followed proper administrative procedures in reaching its decision, or any other factor not directly related to the suitability of the land for the stated uses. Application comments should be specific to the proposed solid waste transfer station site (BLM Serial No. UTU-82068) or the proposed public park (BLM Serial No. UTU-82980).

Before including your address, phone number, e-mail address, or other personal identifying information in your comment, you should be aware that your entire comment, including your personal identifying information, may be made publicly available at any time. While you can ask us in your comment to withhold your personal identifying information from public review, we cannot guarantee that we will be able to do so.

The State Director who may sustain, vacate, or modify this realty action will review any adverse comments. In the absence of any adverse comments, this classification action will become the final determination of the Department of the Interior and become effective on August 24, 2007. The lands will not be available for lease or conveyance until after the classification becomes effective.

(Authority: 43 CFR 2400, 2741 and 2912)

Dated: April 18, 2007.
Todd S. Christensen,
Field Office Manager, Cedar City, Utah.

[FR Doc. E7-12268 Filed 6-22-07; 8:45 am]

BILLING CODE 4310-DQ-P